DEPARTMENT OF THE INTERIOR

Bureau of Land Management

[ES-020-02-1310-EI]

Notice of Intent To Prepare Planning Analyses/Environmental Assessments

AGENCY: Bureau of Land Management (BLM), Interior.

ACTION: Notice of intent to prepare a Planning Analysis/Environmental Assessment.

SUMMARY: The Jackson Field Office, Eastern States will prepare a Planning Analysis/Environmental Assessment (PA/EA), in cooperation with the U.S. Army Corps of Engineers, to consider leasing Federal mineral estate for oil and gas exploration and development. The lands, managed by the U.S. Army Corps of Engineers, are located in the Carr Creek Project Area in Knott County, Kentucky. This notice is issued pursuant to Title 40 Code of Federal Regulations (CFR) 1501.7 and Title 43 CFR 1610.2(c). The planning effort will follow the procedures set forth in Title 43 CFR part 1600. The public is invited to participate in this planning process, beginning with the identification of planning issues and criteria.

DATES: Comments relating to the identification of planning issues and criteria will be accepted for thirty days from the date of this publication. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Send comments to: Bureau of Land Management, Jackson Field Office; 411 Briarwood Drive, Suite 404; Jackson, MS 39206.

FOR FURTHER INFORMATION CONTACT: Clay Moore, Lead for PA/EA, Jackson Field Office, (601-977-5400).

SUPPLEMENTARY INFORMATION: The BLM has responsibility to consider nominations to lease Federal mineral estate for oil and gas exploration and development. An interdisciplinary team will be used in the preparation of the PA/EA. Preliminary issues, subject to change as a result of public input, are (1) Potential impacts of oil and gas exploration and development on the surface resources and uses by the Corps of Engineers and (2) consideration of restrictions on lease rights to protect surface resources and uses by the Corps of Engineers. The Carr Creek Project Area is composed of lands acquired in many separate tracts totaling 3,914.64 acres. The Project Area is in Knott County; approximately 20 miles east of Hazard, Kentucky.

Due to the limited scope of this PA/EA process, public meetings are not scheduled.

Bruce E. Dawson,
Field Manager, Jackson Field Office.

[FR Doc. 01-31748 Filed 12-26-01; 8:45 am]

BILLING CODE 4310-GJ-P